FEDERAL COMMUNICATIONS COMMISSION

47 CFR Part 87

[WT Docket No. 98-20; RM-8677; FCC 98-234]

Facilitate the Development and Use of the Universal Licensing System in the Wireless Telecommunications Services

AGENCY: Federal Communications Commission.

ACTION: Final rule; announcement of effective date.

SUMMARY: The Commission adopted a new rule requiring that each applicant for a unicom license, renewal or modification of frequency assignment at an airport which does not have a control tower, Remote Communications Outlet or Federal Aviation Administration flight service station must certify in the application that either it has notified in writing the owner of the airport and all aviation service organizations located at the airport, or that such notice is not required because the applicant owns the airport and there are no organizations that should be notified. The rule contains new or modified information collection requirements and was published in the Federal Register on December 14, 1998. This document announces the effective date of that published rule.

DATES: The amendment to § 87.215(d) published at 63 FR 68957, December 14, 1998, became effective on February 19, 1999.

FOR FURTHER INFORMATION CONTACT: Jeffrey Tobias, jeff.tobias@FCC.gov, Public Safety and Critical Infrastructure Division, Wireless Telecommunications Bureau, (202) 418-0680, or TTY (202) 418-7233.

SUPPLEMENTARY INFORMATION: On February 19, 1999, the Office of Management and Budget (OMB) approved the information collection requirements contained in section 87.215(d) pursuant to OMB Control No. 3060-0865. Accordingly the information collection requirements contained in this rule became effective on February 19, 1999.

Federal Communications Commission.
Marlene H. Dortch,
Secretary.

[FR Doc. 04-12047 Filed 5-27-04; 8:45 am]

BILLING CODE 6712-01-P